DEPARTMENT OF ENERGY

Federal Energy Regulatory Commission

Combined Notice of Filings #1

Take notice that the Commission received the following electric corporate filings:

Docket Numbers: EC11-106-000.

Applicants: Energy Plus Holdings LLC, Independence Energy Group LLC, NRG Energy, Inc, NRG Franklin Merger LLC.

Description: Joint Application for Authorization Under Section 203 of the Federal Power Act, Request for Expedited Treatment, and Request for Confidential Treatment of Energy Plus Holdings LLC and NRG Energy, Inc.

Filed Date: 08/17/2011.

Accession Number: 20110817-5131.

Comment Date: 5 p.m. Eastern Time on Wednesday, September 07, 2011.

Take notice that the Commission received the following electric rate filings:

Docket Numbers: ER11-3881-001.

Applicants: New York Independent System Operator, Inc.

Description: New York Independent System Operator, Inc. submits tariff filing per 35.17(b): NYISO amendment re: change effective date of ATC definition filing to be effective 10/24/2011.

Filed Date: 08/17/2011.

Accession Number: 20110817-5109.

Comment Date: 5 p.m. Eastern Time on Wednesday, September 07, 2011.

Docket Numbers: ER11-4041-001.

Applicants: Verde Energy USA Trading, LLC.

Description: Verde Energy USA Trading, LLC submits tariff filing per 35.17(b): Verde Energy FERC Application to be effective 8/17/2011.

Filed Date: 08/17/2011.

Accession Number: 20110817-5110.

Comment Date: 5 p.m. Eastern Time on Wednesday, September 07, 2011.

Docket Numbers: ER11-4328-000.

Applicants: New York Independent System Operator, Inc.

Description: New York Independent System Operator, Inc. submits tariff filing per 35.13(a)(2)(iii: NYISO Tariff Revisions: TCC Credit Requirements and Default Notifications to be effective 10/18/2011.

Filed Date: 08/17/2011.

Accession Number: 20110817-5128.

Comment Date: 5 p.m. Eastern Time on Wednesday, September 07, 2011.

Docket Numbers: ER11-4329-000.

Applicants: Southern California Edison Company.

Description: Southern California Edison Company submits tariff filing per 35.13(a)(2)(iii: Amend SGIA WDT SERV AG SCE-GBU 2252 Palmetto Ave., Redlands Rooftop Solar Proj to be effective 8/19/2011.

Filed Date: 08/18/2011.

Accession Number: 20110818-5002.

Comment Date: 5 p.m. Eastern Time on Thursday, September 08, 2011.

Docket Numbers: ER11-4330-000.

Applicants: ISO New England Inc., Vermont Electric Cooperative, Inc.

Description: ISO New England Inc. submits tariff filing per 35.13(a)(2)(iii: Schedule 21-VEC Revisions to be effective 4/1/2011.

Filed Date: 08/18/2011.

Accession Number: 20110818-5005.

Comment Date: 5 p.m. Eastern Time on Thursday, September 08, 2011.

Docket Numbers: ER11-4331-000.

Applicants: Florida Power & Light Company.

Description: Florida Power & Light Company submits tariff filing per 35.13(a)(2)(iii: FPL Revision to Attachment H-B Compliance Filing to be effective 9/1/2011.

Filed Date: 08/18/2011.

Accession Number: 20110818-5017.

Comment Date: 5 p.m. Eastern Time on Thursday, September 08, 2011.

Docket Numbers: ER11-4332-000.

Applicants: Southern California Edison Company.

Description: Southern California Edison Company submits tariff filing per 35.13(a)(2)(iii: SGIA WDT SERV AG SCE-GPS 2292 Palmetto Ave., Redlands, CA Roof Top Solar Project to be effective 8/19/2011.

Filed Date: 08/18/2011.

Accession Number: 20110818-5036.

Comment Date: 5 p.m. Eastern Time on Thursday, September 08, 2011.

Docket Numbers: ER11-4333-000.

Applicants: Astoria Energy LLC.

Description: Astoria Energy LLC submits tariff filing per 35: Astoria Energy MBR E—Tariff to be effective 8/19/2011.

Filed Date: 08/18/2011.

Accession Number: 20110818-5044.

Comment Date: 5 p.m. Eastern Time on Thursday, September 08, 2011.

Docket Numbers: ER11-4334-000.

Applicants: Southern California Edison Company.

Description: Southern California Edison Company submits tariff filing per 35.13(a)(2)(iii: SGIA WDT SERV AG SCE-GPS 1897 Marigold Ave., Redlands, CA Roof Top Solar Project to be effective 8/19/2011.

Filed Date: 08/18/2011.

Accession Number: 20110818-5070.

Comment Date: 5 p.m. Eastern Time on Thursday, September 08, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 18, 2011.
Nathaniel J. Davis, Sr.,
Deputy Secretary.

[FR Doc. 2011-21996 Filed 8-26-11; 8:45 am]

BILLING CODE 6717-01-P